FEDERAL HOUSING FINANCE BOARD

[No. 2004-N-07]

Submission for OMB Review; Comment Request

AGENCY: Federal Housing Finance Board.

ACTION: Notice.

SUMMARY: In accordance with the requirements of the Paperwork Reduction Act of 1995, the Federal Housing Finance Board (Finance Board) has submitted the information collection entitled “Members of the Banks” to the Office of Management and Budget (OMB) for review and approval of a three-year extension of the OMB control number, which is due to expire on May 31, 2004.

DATES: Interested persons may submit comments on or before May 13, 2004.

ADDRESSES: Send comments to the Office of Information and Regulatory Affairs of the Office of Management and Budget, Attention: Desk Officer for the Federal Housing Finance Board, Washington, DC 20503.

FOR FURTHER INFORMATION CONTACT: Jonathon F. Curtis, Senior Financial Analyst, Regulations & Research Division, Office of Supervision, by e-mail at curtisj@fhfb.gov, by telephone at 202/408-2866, or by regular mail at the Federal Housing Finance Board, 1777 F Street, NW., Washington, DC 20006.

SUPPLEMENTARY INFORMATION:

A. Need For and Use of the Information Collection

Section 4 of the Federal Home Loan Bank Act (Bank Act) establishes the eligibility requirements an institution must meet in order to become a member of a Federal Home Loan Bank (Bank). See 12 U.S.C. 1424. Part 925 of the Finance Board regulations—the membership rule—implements section 4 of the Bank Act. See 12 CFR part 925. The membership rule provides uniform requirements an applicant for Bank membership must meet and review criteria a Bank must apply to determine if an applicant satisfies the statutory and regulatory membership eligibility requirements.

More specifically, the membership rule implements the statutory eligibility requirements and provides guidance to an applicant on how it may satisfy such requirements. The rule authorizes a Bank to approve or deny each membership application subject to the statutory and regulatory requirements and permits an applicant to appeal to the Finance Board a Bank's decision to deny certification as a Bank member. The rule also imposes a continuing obligation on a current Bank member to provide information necessary to determine if it remains in compliance with applicable statutory and regulatory eligibility requirements.

The information collection, which is contained in §§ 925.2 through 925.31 of the membership rule, 12 CFR 925.2-925.31, is necessary to enable a Bank to determine if a respondent satisfies the statutory and regulatory requirements to be certified initially and maintain its status as a member eligible to obtain Bank advances. The Finance Board requires and uses the information collection to determine whether to uphold or overrule a Bank's decision to deny member certification to an applicant.

The OMB number for the information collection is 3069-0004. The OMB clearance for the information collection expires on May 31, 2004.

The likely respondents are institutions that are or want to become members of a Bank.

B. Burden Estimate

The Finance Board has analyzed the cost and hour burden for the four facets of the information collection—membership application process, minimum capital stock calculation, membership withdrawals and transfer of membership to another Bank district. The first notice inadvertently omitted the burden estimates for two of the four facets of the information collection. As explained in more detail below, the estimate for the total annual hour burden is 12,346 hours.

1. Membership Application Process

The Finance Board estimates the total annual average number of applicants for Bank membership at 300, with 1 response per applicant. The estimate for the average hours per application is 24.5 hours. The Finance Board estimates the total annual average number of applications appealed to the Finance Board at one. The estimate for the average hours per appellate application is 10 hours. The estimate for the total annual hour burden for the membership application process is 7450 hours (300 applicants × 1 application × 24.5 hours + 1 appellant × 1 appeal × 10 hours).

2. Minimum Capital Stock Calculation

The Finance Board estimates the total annual average number of Bank members that must calculate the minimum capital stock requirement at 8,100, with 1 response per member. The estimate for the average hours per maintenance response is 0.6 hours. The estimate for the total annual hour burden for the minimum capital stock calculation is 4860 hours (8100 members × 1 response × 0.6 hours).

3. Membership Withdrawals

The Finance Board estimates the total annual average number of members that will file to withdraw from Bank membership at 30, with 1 filing per member. The estimate for the average hours per filing is 0.6 hours. The estimate for the total annual hour burden for membership withdrawals is 18 hours (30 members × 1 filing × 0.6 hours).

4. Transfer of Membership to Another Bank District

The Finance Board estimates the total annual average number of members that will file to transfer membership to another Bank district at 5, with 1 filing per member. The estimate for the average hours per filing is 3.5 hours. The estimate for the total annual hour burden for membership transfers is 18 hours (5 members × 1 filing × 3.5 hours).

C. Comment Request

In accordance with the requirements of 5 CFR 1320.8(d), the Finance Board published a request for public comments regarding this information collection in the Federal Register on February 5, 2004. See 69 FR 5546 (Feb. 5, 2004). The 60-day comment period closed on April 5, 2004. The Finance Board received one comment urging increased use of electronic information. The Finance Board encourages the use of information technology to reduce the information collection burden. However, the extent of use is determined by each Bank. The comment is available on the Finance Board Web site at http://www.fhfb.gov/pressroom/pressroom_regs.htm.

Written comments are requested on: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology. Comments may be submitted to OMB in writing at the address listed above.

Dated: April 5, 2004.
By the Federal Housing Finance Board.
Donald Demitros,
Chief Information Officer.

[FR Doc. 04-8254 Filed 4-12-04; 8:45 am]

BILLING CODE 6725-01-P